DEPARTMENT OF COMMERCE

National Oceanic and Atmospheric Administration

50 CFR Part 679

[Docket No. 000211039-0039-01; I.D. 111899A]

Fisheries of the Exclusive Economic Zone Off Alaska; Final 2000 Harvest Specifications for Groundfish; Correction

AGENCY: National Marine Fisheries Service (NMFS), National Oceanic and Atmospheric Administration (NOAA), Commerce.

ACTION: Final 2000 harvest specifications; correction.

SUMMARY: NMFS published final 2000 harvest specifications for the groundfish fishery of the Gulf of Alaska (GOA) on February 18, 2000. These final 2000 harvest specifications for the GOA inadvertently omitted changes made by previous rulemaking. Therefore, NMFS is correcting the published final 2000 total allowable catch amounts (TACs) specified for pollock in the Western and Central Regulatory Areas of the Gulf of Alaska (W/C GOA).

DATES: Effective February 15, 2000, through 2400 hrs A.l.t. December 31, 2000.

FOR FURTHER INFORMATION CONTACT: Sue Salveson, 907-586-7228.

SUPPLEMENTARY INFORMATION: NMFS manages the groundfish fishery in the GOA exclusive economic zone according to the Fishery Management Plan for Groundfish of the Gulf of Alaska (FMP) prepared by the North Pacific Fishery Management Council under authority of the Magnuson-Stevens Fishery Conservation and Management Act. Regulations governing fishing by U.S. vessels in accordance with the FMP appear at subpart H of 50 CFR part 600 and 50 CFR part 679.

On January 3, 2000, NMFS published interim 2000 pollock TACs (65 FR 65). For pollock, the interim TAC consists of the entire A season allocation. These interim pollock TACs were not further apportioned by time and area. On January 25, 2000, NMFS published an emergency rule implementing Steller sea lion protection measures (65 FR 3892). The emergency rule amended the original interim TACs for pollock in the W/C GOA by revising the TAC levels to account for the best available scientific information and apportioned the TACs by area for the A season.

On January 27, 2000, NMFS issued an inseason adjustment amending the time and area apportionments of the W/C GOA interim pollock TACs (65 FR 4892, February 2, 2000). The amended interim TAC apportionments reflected a revised procedure for more accurately allocating pollock as authorized under the emergency rule.

NMFS published the final 2000 harvest specifications for the GOA groundfish fishery on February 18, 2000 (65 FR 8298). Inadvertently, the changes to the A season TACs and apportionments made by the emergency rule and the inseason adjustment to the emergency rule for the W/C GOA pollock TACs were omitted from the final 2000 harvest specifications for the GOA groundfish fishery.

Correction

In the rule to implement the Final 2000 Harvest Specifications for Groundfish of the Gulf of Alaska, published on February 18, 2000 (65 FR 8298), FR Doc. 00-3910, the following corrections are made to the TAC amounts specified for pollock in the W/C GOA.

1. On page 8301, in Table 1, the entire entry “Pollock” and footnote 2 are correctly revised to read as follows:

Table 1. 2000 ABCs, TACs, Initial TACs (Pacific Cod Only) and Overfishing Levels of Groundfish for the Western/Central/West Yakutat (W/C/WYK), Western (W), Central (C), Shelikof Strait, Eastern (E) Regulatory Areas, and in the West Yakutat (WYK), Southeast Outside (SEO), and Gulf-Wide (GW) Districts of the Gulf of Alaska.
[Values are in metric tons]
Species | Area¹ | ABC | TAC | Initial TAC Overfishing
Pollock² |  |  |  |
Shumagin | (610) | 32,340 | 32,340 |
Chirikof | (620) | 13,372 | 13,372 |
Kodiak | (630) | 24,501 | 24,501 |
Shelikof |  | 20,987 | 20,987 |
WYK | (640) | 2,340 | 2,340
Subtotal | W/C/WYK | 93,540 | 93,540 | 130,760
SEO | (650) | 6,460 | 6,460 | 8,610
Total |  | 100,000 | 100,000 | 139,370
* * * * * * *
² Under the emergency interim rule (65 FR 3892, January 25, 2000) pollock is apportioned in the Western/Central Regulatory areas to the Shelikof Strait conservation area (defined at § 679.22(b)(3)(iii)(B)) in the A and B seasons only. In accordance with § 679.22(b)(3)(iii)(C) the pollock TAC in the Shelikof Strait is determined by calculating a ratio equal to the most recent estimate of pollock biomass in the Shelikof Strait divided by the total pollock biomass in the GOA. This ratio is multiplied by the amount of the combined Western and Central GOA TAC available in the A and B seasons. The remainder of the combined Western and Central GOA TAC in the A and B seasons is then apportioned to areas 610, 620, 630 outside the Shelikof Strait based on the distribution of pollock outside the Shelikof Strait, which is 56 percent, 4 percent, and 40 percent respectively. During the C and D seasons pollock is apportioned based on the relative distribution of pollock biomass at 42 percent, 25 percent, and 33 percent in Regulatory Areas 610, 620, and 630 respectively. These seasonal apportionments are shown in Tables 3 and 4. In the Eastern Regulatory Area, pollock is not divided into seasonal allowances.

* * * * *

2. On page 8304, Table 3 is correctly revised to read as follows:

Table 3. Distribution of Pollock in the Western and Central Regulatory Areas of the Gulf of Alaska (W/C GOA); Biomass Distribution, Area Apportionments, and Seasonal Allowances of Annual TAC for the A and B Seasons in 2000.
Statistical area | Biomass percent | 2000 Annual TAC | Seasonal Allowances of Annual TAC: A: (30%) | Seasonal Allowances of Annual TAC: B: (15%)
Shelikof | 51.1 | 20,987 | 13,991 | 6,996
Shumagin 610) | 27.4 | 32,340 | 7,498 | 3,749
Chirik of¹(620) | 2.0 | 13,372 | 546 | 273
Kodiak¹ (630) | 19.5 | 24,501 | 5,325 | 2,662
TOTAL | 100.0 | 91,200 | 27,360 | 13,680
¹ A and B seasonal allowances in the Chirikof and Kodiak Districts are outside the Shelikof Strait defined at § 679.20(b)(2)(iii)(B).

Classification

This action is required by § 679.20 and is exempt from review under E.O. 12866.

Authority: 16 U.S.C. 1801 et seq.

Dated: February 25, 2000.
Andrew A. Rosenberg,
Deputy Asst. Administrator for Fisheries, National Marine Fisheries Service.

[FR Doc. 00-5225 Filed 3-6-00; 8:45 am]

BILLING CODE 3510-22-F